DEPARTMENT OF COMMERCE

International Trade Administration

Extension of U.S. Section Member Appointments to the United States-Brazil CEO Forum

AGENCY: International Trade Administration, Department of Commerce.

ACTION: Notice.

SUMMARY: In March 2007, the Governments of the United States and Brazil established the U.S.-Brazil CEO Forum (Forum). Through a Federal Register notice on May 29, 2013 (78 FR 32,239), the Department of Commerce solicited applicants for appointment to the U.S. Section for a term of three years to expire August 13, 2016, and appointed individuals to all twelve Member positions. Vacancies arising during the three-year term were filled through the same process (see 80 FR 13,520 (Mar. 16, 2015) and 80 FR 17,032 (Mar. 31, 2015)). For the reasons explained below, the Secretary of Commerce and the Director of the National Economic Council and Assistant to the President for Economic Policy are extending the current U.S. Section Member appointments through June 30, 2017.

ADDRESSES: U.S. Department of Commerce, 1401 Constitution Avenue NW., Room 30013, Washington, DC 20230.

FOR FURTHER INFORMATION CONTACT: Raquel Silva, Office of Latin America and the Caribbean, U.S. Department of Commerce, Raquel.Silva@trade.gov, telephone: (202) 482-4157.

SUPPLEMENTARY INFORMATION: The Secretary of Commerce and the Director of the National Economic Council and Assistant to the President for Economic Policy, together with the Brazilian Minister of Casa Civil and the Brazilian Minister of Industry, Foreign Trade and Services co-chair the U.S.-Brazil CEO Forum, pursuant to the Terms of Reference signed in March 2007 by the U.S. and Brazilian governments, as amended, which set forth the objectives and structure of the Forum. The Terms of Reference may be viewed at: http://www.trade.gov/ceo-forum/. The Forum, consisting of both private and public sector members, brings together leaders of the respective business communities of the United States and Brazil to discuss issues of mutual interest, particularly ways to strengthen the economic and commercial ties between the two countries. The Forum consists of the U.S. and Brazilian Government co-chairs and a Committee comprised of private sector members. The Committee is composed of two Sections, each consisting of up to twelve members from the private sector, representing the views and interests of the private sector business community in the United States and Brazil. Each government appoints the members to its respective Section. The Committee provides joint recommendations to the two governments that reflect private sector views, needs and concerns regarding the creation of an economic environment in which their respective private sectors can partner, thrive and enhance bilateral commercial ties to expand trade between the United States and Brazil.

As stated in the amended Terms of Reference, “members [of the Forum] normally are to serve three-year terms but may be reappointed.” The current U.S. Section Member appointments expire on August 13, 2016. The postponement of the most recent scheduled meeting of the United States-Brazil CEO Forum has resulted in a need for additional time for the current U.S. Section Members to finish on-going work with the Brazil Section Members to finalize and present Committee joint recommendations to the Government co-chairs. For that reason, the Secretary of Commerce and the Director of the National Economic Council and Assistant to the President for Economic Policy have decided to extend the current U.S. Section Member appointments through June 30, 2017.

Dated: July 27, 2016.
Alexander Peacher,
Acting Director for the Office of Latin America & the Caribbean.

[FR Doc. 2016-18338 Filed 8-2-16; 8:45 am]

BILLING CODE 3510-HE-P